DEPARTMENT OF COMMERCE

National Oceanic and Atmospheric Administration

RIN: 0648-XH40

Gulf of Mexico Fishery Management Council; Public Meetings

AGENCY: National Marine Fisheries Service (NMFS), National Oceanic and Atmospheric Administration (NOAA), Commerce.

ACTION: Notice of a public meeting.

SUMMARY: The Gulf of Mexico Fishery Management Council (Council) will convene a workgroup of its Socioeconomic Panel (SEP).

DATES: The meeting will be convened at 9 a.m. on Wednesday, May 14, 2008 and conclude no later than 5 p.m.

ADDRESSES: The meeting will be held at the Inter-Continental Hotel, 4860 W. Kennedy Blvd., Tampa, FL 33609; telephone: (813) 286-4400.

Council address: Gulf of Mexico Fishery Management Council, 2203 North Lois Avenue, Suite 1100, Tampa, FL 33607.

FOR FURTHER INFORMATION CONTACT: Dr. Assane Diagne, Economist, Gulf of Mexico Fishery Management Council; telephone: (813) 348-1630.

SUPPLEMENTARY INFORMATION: The Gulf of Mexico Fishery Management Council (Council) will convene a workgroup of its Socioeconomic Panel (SEP) to discuss social and economic aspects of total allowable catch (TAC) allocations between the recreational and commercial sectors.

A copy of the agenda and related materials can be obtained by calling the Council office at (813) 348-1630.

Although other non-emergency issues not on the agendas may come before the SEP workgroup for discussion, in accordance with the Magnuson-Stevens Fishery Conservation and Management Act (Magnuson-Stevens Act), those issues may not be the subject of formal action during this meeting. Actions of the SEP workgroup will be restricted to those issues specifically identified in the agendas and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Tina Trezza at the Council (see ADDRESSES) at least 5 working days prior to the meeting.

Dated: April 21, 2008.
Tracey L. Thompson,
Acting Director, Office of Sustainable Fisheries, National Marine Fisheries Service.

[FR Doc. E8-8937 Filed 4-23-08; 8:45 am]

BILLING CODE 3510-22-S